DEPARTMENT OF HEALTH AND HUMAN SERVICES

Meeting of the Presidential Advisory Council on Combating Antibiotic-Resistant Bacteria

AGENCY: Department of Health and Human Services, Office of the Secretary, Office of the Assistant Secretary for Health.

ACTION: Notice.

SUMMARY: As stipulated by the Federal Advisory Committee Act, the Department of Health and Human Services (HHS) is hereby giving notice that a meeting is scheduled to be held on April 8, 2019, for the Presidential Advisory Council on Combating Antibiotic-Resistant Bacteria (Advisory Council). The meeting will be open to the public via teleconference. Pre-registration is required for members of the public who wish to attend the meeting via teleconference. Individuals who wish to send in their public comments should send an email to CARB@hhs.gov. Registration information is available on the website http://www.hhs.gov/ash/carb/ and must be completed by April 2, 2019. Additional information about registering for the meeting and providing public comments can be obtained at http://www.hhs.gov/ash/carb/ on the Meetings page.

DATES: The meeting is scheduled to be held on April 8, 2019, from 12:00 p.m. to 2:00 p.m. ET (times are tentative and subject to change). The confirmed times and agenda items for the meeting will be posted on the website for the Advisory Council at http://www.hhs.gov/ash/carb/ when this information becomes available. Pre-registration for attending the meeting is required to be completed no later than April 2, 2019.

ADDRESSES: Instructions regarding attending this meeting virtually will be posted one week prior to the meeting at: http://www.hhs.gov/ash/carb/.

FOR FURTHER INFORMATION CONTACT: Jomana Musmar, Designated Federal Officer, Presidential Advisory Council on Combating Antibiotic-Resistant Bacteria, Office of the Assistant Secretary for Health, U.S. Department of Health and Human Services, Room L133, Switzer Building, 330 C. St. SW, Washington, DC 20201. Phone: (202) 690-5566; email: CARB@hhs.gov.

SUPPLEMENTARY INFORMATION: Under Executive Order 13676, dated September 18, 2014, authority was given to the Secretary of HHS to establish the Advisory Council, in consultation with the Secretaries of Defense and Agriculture. Activities of the Advisory Council are governed by the provisions of Public Law 92-463, as amended (5 U.S.C. App.), which sets forth standards for the formation and use of federal advisory committees.

The Advisory Council will provide advice, information, and recommendations to the Secretary of HHS regarding programs and policies intended to support and evaluate the implementation of Executive Order 13676, including the National Strategy for Combating Antibiotic-Resistant Bacteria and the National Action Plan for Combating Antibiotic-Resistant Bacteria. The Advisory Council shall function solely for advisory purposes.

In carrying out its mission, the Advisory Council will provide advice, information, and recommendations to the Secretary regarding programs and policies intended to preserve the effectiveness of antibiotics by optimizing their use; advance research to develop improved methods for combating antibiotic resistance and conducting antibiotic stewardship; strengthen surveillance of antibiotic-resistant bacterial infections; prevent the transmission of antibiotic-resistant bacterial infections; advance the development of rapid point-of-care and agricultural diagnostics; further research on new treatments for bacterial infections; develop alternatives to antibiotics for agricultural purposes; maximize the dissemination of up-to-date information on the appropriate and proper use of antibiotics to the general public and human and animal healthcare providers; and improve international coordination of efforts to combat antibiotic resistance.

The public meeting will be dedicated to deliberation and vote of the report with recommendation from the Immediate Action Subcommittee of the Advisory Council. The meeting agenda will be posted on the Advisory Council website at http://www.hhs.gov/ash/carb/ when it has been finalized. All agenda items are tentative and subject to change.

Instructions regarding attending this meeting virtually will be posted one week prior to the meeting at: http://www.hhs.gov/ash/carb/.

Members of the public will have the opportunity to provide comments prior to the Advisory Council meeting by emailing CARB@hhs.gov. Public comments should be sent in by midnight April 2, 2019, and should be limited to no more than one page. All public comments received prior to April 2, 2019, will be provided to Advisory Council members and will be acknowledged during the public teleconference.

Dated: February 26, 2019.
Jomana F. Musmar,
Designated Federal Officer, Presidential Advisory Council on Combating Antibiotic-Resistant Bacteria, Committee Manager.

[FR Doc. 2019-04404 Filed 3-8-19; 8:45 am]

BILLING CODE 4150-44-P